DEPARTMENT OF HEALTH AND HUMAN SERVICES

National Institutes of Health

National Institute of Mental Health; Notice of Workgroup Meeting

Notice is hereby given of a meeting of the Strategic Plan Workgroup organized by the Interagency Autism Coordinating Committee (IACC).

This workgroup meeting will be closed to the public with attendance limited to invited participants. The purpose of the meeting is to discuss and prioritize proposed research initiatives that will be used in the development of the IACC strategic plan for Autism Spectrum Disorder (ASD) research. The next meeting of the IACC, which will be open to the public and at which research priorities will be discussed, is March 14, 2008.

Name of Committee: Interagency Autism Coordinating Committee (IACC).

Type of Meeting: Strategic Plan Workgroup.

Date: February 21, 2008.

Time: 9 a.m. to 3 p.m.

Agenda: Discussion of proposed research initiatives developed by Strategic Plan Workshops for development of the IACC strategic plan for Autism Spectrum Disorders research; prioritization and possible modification of the initiatives.

Place: National Institutes of Health, 9000 Rockville Pike, Building 31—Room 4A52, Bethesda, MD 20892.

Contact Person: Tanya Pryor, National Institute of Mental Health, NIH, 6001 Executive Boulevard, NSC, Room 6198, Bethesda, MD 20892-9669, 301-443-7153.

Information about the IACC is available on the Web site: http://www.nimh.nih.gov/research-funding/scientific-meetings/recurring-meetings/iacc/index.shtml.

Dated: February 5, 2008.
Jennifer Spaeth,
Director, Office of Federal Advisory Committee Policy.

[FR Doc. 08-600 Filed 2-12-08; 8:45 am]

BILLING CODE 4140-01-M